DEPARTMENT OF ENERGY

Federal Energy Regulatory Commission

Combined Notice of Filings #1

Take notice that the Commission received the following exempt wholesale generator filings:

Docket Numbers: EG25-31-000.

Applicants: Nimbus Wind Farm, LLC.

Description: Nimbus Wind Farm, LLC submits Notice of Self-Certification of Exempt Wholesale Generator Status.

Filed Date: 11/12/24.

Accession Number: 20241112-5218.

Comment Date: 5 p.m. ET 12/3/24.

Take notice that the Commission received the following electric rate filings:

Docket Numbers: ER11-2383-026.

Applicants: Safe Harbor Water Power Corporation.

Description: Compliance filing: Informational Filing Pursuant to Schedule 2 of the PJM OATT & Request for Waiver to be effective N/A.

Filed Date: 11/8/24.

Accession Number: 20241108-5196.

Comment Date: 5 p.m. ET 11/29/24.

Docket Numbers: ER15-1706-007.

Applicants: Newark Energy Center, LLC.

Description: Compliance filing: Informational Filing Pursuant to Schedule 2 of the PJM OATT & Request for Waiver to be effective N/A.

Filed Date: 11/8/24.

Accession Number: 20241108-5193.

Comment Date: 5 p.m. ET 11/29/24.

Docket Numbers: ER16-1530-003.

Applicants: BIF III Holtwood LLC.

Description: Compliance filing: Informational Filing Pursuant to Schedule 2 of the PJM OATT & Request for Waiver to be effective N/A.

Filed Date: 11/8/24.

Accession Number: 20241108-5184.

Comment Date: 5 p.m. ET 11/29/24.

Docket Numbers: ER20-2446-006.

Applicants: Bitter Ridge Wind Farm, LLC.

Description: Compliance filing: Informational Filing Pursuant to Schedule 2 of the PJM OATT & Request for Waiver to be effective N/A.

Filed Date: 11/8/24.

Accession Number: 20241108-5187.

Comment Date: 5 p.m. ET 11/29/24.

Docket Numbers: ER21-511-006.

Applicants: Safe Harbor Water Power Corporation.

Description: Compliance filing: Informational Filing Pursuant to Schedule 2 of the PJM OATT & Request for Waiver to be effective N/A.

Filed Date: 11/8/24.

Accession Number: 20241108-5201.

Comment Date: 5 p.m. ET 11/29/24.

Docket Numbers: ER21-887-002.

Applicants: Brookfield Power Piney & Deep Creek LLC.

Description: Compliance filing: Informational Filing Pursuant to Schedule 2 of the PJM OATT & Request for Waiver to be effective N/A.

Filed Date: 11/8/24.

Accession Number: 20241108-5190.

Comment Date: 5 p.m. ET 11/29/24.

Docket Numbers: ER22-2292-001.

Applicants: Idaho Power Company.

Description: Compliance filing: Compliance Filing—Order 881 to be effective N/A.

Filed Date: 11/12/24.

Accession Number: 20241112-5164.

Comment Date: 5 p.m. ET 12/3/24.

Docket Numbers: ER22-2303-001.

Applicants: Black Hills Power, Inc.

Description: Compliance filing: Order No. 881 Further Compliance Filing to be effective N/A.

Filed Date: 11/12/24.

Accession Number: 20241112-5130.

Comment Date: 5 p.m. ET 12/3/24.

Docket Numbers: ER22-2305-001.

Applicants: Louisville Gas and Electric Company.

Description: Compliance filing: Order No. 881 Additional Compliance Filing to be effective N/A.

Filed Date: 11/12/24.

Accession Number: 20241112-5005.

Comment Date: 5 p.m. ET 12/3/24.

Docket Numbers: ER22-2306-001.

Applicants: Black Hills Colorado Electric, LLC.

Description: Compliance filing: Order No. 881 Further Compliance Filing to be effective N/A.

Filed Date: 11/12/24.

Accession Number: 20241112-5137.

Comment Date: 5 p.m. ET 12/3/24.

Docket Numbers: ER22-2307-001.

Applicants: Cheyenne Light, Fuel and Power Company.

Description: Compliance filing: Order No. 881 Further Compliance Filing to be effective N/A.

Filed Date: 11/12/24.

Accession Number: 20241112-5141.

Comment Date: 5 p.m. ET 12/3/24.

Docket Numbers: ER22-2335-001.

Applicants: Public Service Company of New Mexico.

Description: Compliance filing: PNM Compliance Order No. 881—Timelines to be effective N/A.

Filed Date: 11/12/24.

Accession Number: 20241112-5312.

Comment Date: 5 p.m. ET 12/3/24.

Docket Numbers: ER22-2339-003.

Applicants: Southwest Power Pool, Inc.

Description: Compliance filing: Fourth Order No. 881 Compliance Filing to Implement Transmission Line Ratings to be effective N/A.

Filed Date: 11/12/24.

Accession Number: 20241112-5179.

Comment Date: 5 p.m. ET 12/3/24.

Docket Numbers: ER22-2341-002.

Applicants: Alabama Power Company, Georgia Power Company, Mississippi Power Company.

Description: Compliance filing: Alabama Power Company submits tariff filing per 35: Order No. 881 Second Compliance Filing to be effective 7/12/2025.

Filed Date: 11/12/24.

Accession Number: 20241112-5308.

Comment Date: 5 p.m. ET 12/3/24.

Docket Numbers: ER22-2345-001.

Applicants: NorthWestern Corporation.

Description: Compliance filing: Order No. 881 2nd Compliance Filing to be effective N/A.

Filed Date: 11/12/24.

Accession Number: 20241112-5007.

Comment Date: 5 p.m. ET 12/3/24.

Docket Numbers: ER22-2346-001.

Applicants: El Paso Electric Company.

Description: Compliance filing: OATT Order No. 881 Compliance Filing—Attachment O to be effective 7/12/2025.

Filed Date: 11/12/24.

Accession Number: 20241112-5226.

Comment Date: 5 p.m. ET 12/3/24.

Docket Numbers: ER22-2348-001.

Applicants: Tucson Electric Power Company.

Description: Compliance filing: Order No. 881 Compliance Filing to be effective N/A.

Filed Date: 11/12/24.

Accession Number: 20241112-5170.

Comment Date: 5 p.m. ET 12/3/24.

Docket Numbers: ER22-2349-001.

Applicants: UNS Electric, Inc.

Description: Compliance filing: Order No. 881 Compliance Filing to be effective N/A.

Filed Date: 11/12/24.

Accession Number: 20241112-5176.

Comment Date: 5 p.m. ET 12/3/24.

Docket Numbers: ER22-2351-001.

Applicants: Avista Corporation.

Description: Compliance filing: Avista Corp Order No. 881 Compliance Filing to be effective 7/11/2025.

Filed Date: 11/8/24.

Accession Number: 20241108-5208.

Comment Date: 5 p.m. ET 11/29/24.

Docket Numbers: ER22-2352-001.

Applicants: Duke Energy Florida, LLC, Duke Energy Progress, LLC, Duke Energy Carolinas, LLC.

Description: Compliance filing: Duke Energy Florida, LLC submits tariff filing per 35: Second Order No. 881 Compliance Filing to be effective N/A.

Filed Date: 11/12/24.

Accession Number: 20241112-5303.

Comment Date: 5 p.m. ET 12/3/24.

Docket Numbers: ER22-2354-001.

Applicants: GridLiance High Plains LLC.

Description: Compliance filing: GHP Order 881 Compliance Filing to be effective N/A.

Filed Date: 11/12/24.

Accession Number: 20241112-5088.

Comment Date: 5 p.m. ET 12/3/24.

Docket Numbers: ER22-2357-002.

Applicants: ISO New England Inc., Eversource Energy Service Company (as agent), Cross-Sound Cable Company, LLC, New England Power Pool Participants Committee, The United Illuminating Company.

Description: Compliance filing: ISO New England Inc. submits tariff filing per 35: ISO-NE—Further Order No. 881 Compliance Filing to be effective N/A.

Filed Date: 11/12/24.

Accession Number: 20241112-5300.

Comment Date: 5 p.m. ET 12/3/24.

Docket Numbers: ER22-2358-002.

Applicants: Versant Power.

Description: Compliance filing: Order 881 Compliance—Versant Pwr-MPD, Explanation of Timelines ER22-2358- to be effective N/A.

Filed Date: 11/12/24.

Accession Number: 20241112-5173.

Comment Date: 5 p.m. ET 12/3/24.

Docket Numbers: ER22-2359-004.

Applicants: PJM Interconnection, L.L.C.

Description: Compliance filing: Orders Nos. 881 and 881-A Compliance Filing to be effective 7/12/2025.

Filed Date: 11/12/24.

Accession Number: 20241112-5332.

Comment Date: 5 p.m. ET 12/3/24.

Docket Numbers: ER22-2361-001.

Applicants: Puget Sound Energy, Inc.

Description: Compliance filing: Second Order No. 881 Compliance Filing to be effective 7/12/2025.

Filed Date: 11/12/24.

Accession Number: 20241112-5258.

Comment Date: 5 p.m. ET 12/3/24.

Docket Numbers: ER22-2363-002.

Applicants: Midcontinent Independent System Operator, Inc.

Description: Compliance filing: 2024-11-12_Compliance Filing on Order 881 Managing Transmission Line Ratings to be effective N/A.

Filed Date: 11/12/24.

Accession Number: 20241112-5280.

Comment Date: 5 p.m. ET 12/3/24.

Docket Numbers: ER24-2297-001.

Applicants: Ross County Solar, LLC.

Description: Tariff Amendment: Response to Deficiency Filing to be effective 7/15/2024.

Filed Date: 11/8/24.

Accession Number: 20241108-5188.

Comment Date: 5 p.m. ET 11/29/24.

Docket Numbers: ER24-2832-001.

Applicants: Unitil Power Corp.

Description: Compliance filing: Amendment to Unitil System Agreement to be effective 8/22/2024.

Filed Date: 11/12/24.

Accession Number: 20241112-5224.

Comment Date: 5 p.m. ET 12/3/24.

Docket Numbers: ER25-399-000.

Applicants: PJM Interconnection, L.L.C.

Description: § 205(d) Rate Filing: Amendment to WMPA SA No. 5522, AE1-075 to be effective 1/8/2025.

Filed Date: 11/8/24.

Accession Number: 20241108-5203.

Comment Date: 5 p.m. ET 11/29/24.

Docket Numbers: ER25-400-000.

Applicants: El Paso Electric Company.

Description: Compliance filing: OATT Order No. 881 Compliance Filing—Attachment O to be effective 7/12/2025.

Filed Date: 11/12/24.

Accession Number: 20241112-5010.

Comment Date: 5 p.m. ET 12/3/24.

Docket Numbers: ER25-401-000.

Applicants: Alabama Power Company, Georgia Power Company, Mississippi Power Company.

Description: § 205(d) Rate Filing: Alabama Power Company submits tariff filing per 35.13(a)(2)(iii: Brenneman Solar Amended and Restated LGIA Filing to be effective 10/31/2024.

Filed Date: 11/12/24.

Accession Number: 20241112-5065.

Comment Date: 5 p.m. ET 12/3/24.

Docket Numbers: ER25-402-000.

Applicants: Public Service Company of Colorado.

Description: § 205(d) Rate Filing: 2024-11-12—PSC-WAPA-O&M Agrmt-350-0.2.0-Exh M to be effective 1/11/2025.

Filed Date: 11/12/24.

Accession Number: 20241112-5101.

Comment Date: 5 p.m. ET 12/3/24.

Docket Numbers: ER25-403-000.

Applicants: Black Hills Power, Inc.

Description: § 205(d) Rate Filing: Revisions to Attachment N of Joint Open Access Transmission Tariff to be effective 1/12/2025.

Filed Date: 11/12/24.

Accession Number: 20241112-5159.

Comment Date: 5 p.m. ET 12/3/24.

Docket Numbers: ER25-404-000.

Applicants: Tri-State Generation and Transmission Association, Inc.

Description: § 205(d) Rate Filing: Initial Filing of Rate Schedule No. 396 and Request for Expedited Treatment to be effective 11/8/2024.

Filed Date: 11/12/24.

Accession Number: 20241112-5186.

Comment Date: 5 p.m. ET 12/3/24.

Docket Numbers: ER25-405-000.

Applicants: San Diego Gas & Electric.

Description: § 205(d) Rate Filing: 2025 TACBAA Update to be effective 1/1/2025.

Filed Date: 11/12/24.

Accession Number: 20241112-5194.

Comment Date: 5 p.m. ET 12/3/24.

Docket Numbers: ER25-406-000.

Applicants: Boomtown Solar Energy LLC.

Description: Tariff Amendment: Filing to Cancel Market-Based Rate Tariff to be effective 9/26/2024.

Filed Date: 11/12/24.

Accession Number: 20241112-5209.

Comment Date: 5 p.m. ET 12/3/24.

Docket Numbers: ER25-407-000.

Applicants: Tri-State Generation and Transmission Association, Inc.

Description: § 205(d) Rate Filing: Amendment to Rate Schedule FERC No. 5 to be effective 1/12/2025.

Filed Date: 11/12/24.

Accession Number: 20241112-5231.

Comment Date: 5 p.m. ET 12/3/24.

Docket Numbers: ER25-408-000.

Applicants: Midcontinent Independent System Operator, Inc., Duke Energy Indiana, LLC.

Description: § 205(d) Rate Filing: Midcontinent Independent System Operator, Inc. submits tariff filing per 35.13(a)(2)(iii: 2024-11-12_SA 4396 DEI-Deriva Energy Solar E&P (J1691 J1786) to be effective 11/13/2024.

Filed Date: 11/12/24.

Accession Number: 20241112-5246.

Comment Date: 5 p.m. ET 12/3/24.

Docket Numbers: ER25-409-000.

Applicants: Tri-State Generation and Transmission Association, Inc.

Description: § 205(d) Rate Filing: Amendment to Service Agreement FERC No. 901 to be effective 10/14/2024.

Filed Date: 11/12/24.

Accession Number: 20241112-5267.

Comment Date: 5 p.m. ET 12/3/24.

Docket Numbers: ER25-410-000.

Applicants: ISO New England Inc., New England Power Pool Participants Committee.

Description: § 205(d) Rate Filing: ISO New England Inc. submits tariff filing per 35.13(a)(2)(iii: Revisions to Attachment C—Available Transfer Capability Methodology to be effective 2/28/2025.

Filed Date: 11/12/24.

Accession Number: 20241112-5287.

Comment Date: 5 p.m. ET 12/3/24.

Docket Numbers: ER25-411-000.

Applicants: Tri-State Generation and Transmission Association, Inc.

Description: § 205(d) Rate Filing: Initial Filing of Service Agreement No. 113 to be effective 10/15/2024.

Filed Date: 11/12/24.

Accession Number: 20241112-5305.

Comment Date: 5 p.m. ET 12/3/24.

Docket Numbers: ER25-412-000.

Applicants: CEP&G LLC.

Description: Tariff Amendment: Notice of Tariff Cancellation to be effective 11/13/2024.

Filed Date: 11/12/24.

Accession Number: 20241112-5315.

Comment Date: 5 p.m. ET 12/3/24.

Docket Numbers: ER25-413-000.

Applicants: Tri-State Generation and Transmission Association, Inc.

Description: § 205(d) Rate Filing: Initial Filing of Service Agreement FERC No. 924 to be effective 10/15/2024.

Filed Date: 11/12/24.

Accession Number: 20241112-5325.

Comment Date: 5 p.m. ET 12/3/24.

Take notice that the Commission received the following foreign utility company status filings:

Docket Numbers: FC25-1-000.

Applicants: Sixth Street Partners, LLC.

Description: Sixth Street Partners, LLC submits Notice of Self-Certification of Foreign Utility Company Status.

Filed Date: 11/12/24.

Accession Number: 20241112-5138.

Comment Date: 5 p.m. ET 12/3/24.

Docket Numbers: FC25-2-000.

Applicants: Sixth Street Partners, LLC.

Description: Sixth Street Partners, LLC submits Notice of Self-Certification of Foreign Utility Company Status.

Filed Date: 11/12/24.

Accession Number: 20241112-5145.

Comment Date: 5 p.m. ET 12/3/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: November 12, 2024.
Carlos D. Clay,
Acting Deputy Secretary.

[FR Doc. 2024-26814 Filed 11-15-24; 8:45 am]

BILLING CODE 6717-01-P